DEPARTMENT OF COMMERCE

National Oceanic and Atmospheric Administration

50 CFR Part 660

[Docket No. 060824226-7041-03; I.D. 082806B]

RIN 0648-AU57

Magnuson-Stevens Act Provisions; Fisheries off West Coast States; Pacific Coast Groundfish Fishery; Biennial Specifications and Management Measures; Correction

AGENCY: National Marine Fisheries Service (NMFS), National Oceanic and Atmospheric Administration (NOAA), Commerce.

ACTION: Final rule; correcting amendment.

SUMMARY: This document contains corrections to the final regulations that were published in the Federal Register on December 29, 2006. That final rule implemented Amendment 16-4 to the Pacific Coast Groundfish Fishery Management Plan (FMP) and established the 2007-2008 harvest specifications and management measures for groundfish taken in the U.S. exclusive economic zone (EEZ) off the coasts of Washington, Oregon, and California.

DATES: Effective March 20, 2007.

FOR FURTHER INFORMATION CONTACT: Gretchen Arentzen (Northwest Region, NMFS), phone: 206-526-6147; fax: 206-526-6736 and; e-mail: gretchen.arentzen@noaa.gov.

SUPPLEMENTARY INFORMATION:

Electronic Access

This correcting notice also is accessible via the Internet at the Office of the Federal Register's website at http://www.gpoaccess.gov/fr/index.html. Background information and documents are available at the Council's website at http://www.pcouncil.org.

Background

On September 29, 2006, NMFS published a proposed rule (71 FR 57764) to implement Amendment 16-4 to the Pacific Coast Groundfish FMP and establish the 2007-2008 harvest specifications and management measures for groundfish taken in the EEZ off the coasts of Washington, Oregon, and California. NMFS accepted public comment on the proposed rule and responded to these comments in the preamble to the final rule, which published in the Federal Register on December 29, 2006 (71 FR 78638). These final regulations revised portions of 50 CFR 660.302 through 660.394, and are the subject of this correcting amendment. These regulations affect persons operating fisheries for groundfish species off the U.S. West Coast. As published, the final regulations contain errors that may mislead the public and need to be corrected. This action provides fourteen corrections to the final regulations, all of which are either mis-numbered paragraphs, formatting mistakes, transposed numbers, removal of text that was mistakenly left in, or addition of text that was mistakenly left out.

Classification

The Assistant Administrator for Fisheries, NOAA, finds good cause to waive the requirement to provide prior notice and opportunity for public comment on this action pursuant to 5 U.S.C. 553(b)(3)(B); providing prior notice and opportunity for comment would be unnecessary and contrary to the public interest. This correction notice revises §§ 660.302, 370, 373, 391, and 394. Providing notice and comment on these changes is unnecessary because all are non-substantive and have no effect on the public or the operation of the fishery.

One correction for § 660.302 removes a duplicate entry defining “Office of Law Enforcement”. Removing this duplicate definition has no effect on the public except to eliminate any confusion that may have resulted from having two identical entries.

There are seven corrections to § 660.370 provided in this document. One correction corrects a formatting mistake in the heading of paragraph (d). Correcting the format of this heading has no effect on the public. One correction revises a misquotation of text from the prohibitions portion of the West Coast groundfish regulations at § 660.306(a)(7). Correcting this misquotation of § 660.306(a)(7) has no effect on the public except to eliminate any confusion that may have resulted from the discrepancy between the regulations cited and the quoted text. The other five corrections correct species sorting requirements at § 660.370(h)(6) to reflect the prohibition on failing to sort at § 660.306(a)(7) of the Code of Federal Regulations. The prohibition at § 660.306(a)(7) prohibits failing to sort groundfish for which there is a “trip limit, size limit, scientific sorting designation, quota, harvest guideline, or OY, if the vessel fished or landed in an area during a time when such trip limit, size limit, scientific sorting designation, quota, harvest guideline, or OY applied"; these limits and harvest guidelines are designated for groundfish species and species groups in Tables 1-5 of part 660, subpart G. Correctly listing the species sorting requirements from those tables also has no effect on the public except to eliminate any confusion that may have occurred over the discrepancy between the prohibitions and Tables 1-5 of part 660, subpart G and the incorrect sorting requirement species list.

One correction for § 660.373(d) reinstates regulatory language that had been published in the proposed and final rules (71 FR 57764, and 71 FR 78638, respectively) but which the Office of the Federal Register had mistakenly omitted in the finalized Code of Federal Regulations. Reinstating this paragraph has no effect on the public except to eliminate any confusion for members of the public who had expected to see this language in the Code of Federal Regulations after having had an opportunity to review and comment on it in the proposed rule and review it again in the final rule.

One correction eliminates a duplicate paragraph in § 660.391. Paragraph § 660.391 (d)(22) duplicates paragraph (d)(23) and is removed, while paragraphs (d)(23) through (d)(332) are re-designated as (d)(22) through (d)(331) to ensure that all of the coordinates in § 660.391 are listed with no break in paragraph numbers. Paragraph § 660.391(d) provides a list of coordinates, expressed in degrees latitude and longitude, for a coastwide 30-fm (55-m) depth line. Correcting this duplication has no regulatory effect and no effect on the public except to eliminate any confusion that may have resulted from the duplicate entries. This correction also does not change the intent or application of the geographic area described in the proposed and final rule.

There are four corrections in § 660.394. There are currently two paragraphs § 660.394 (h), two paragraphs § 660.394(n) and no paragraph § 660.394(i) between the second § 660.394(h) and § 660.394(j). All of these paragraphs are lists of coordinates, expressed in degrees latitude and longitude, that define large-scale boundaries for Rockfish Conservation Areas off the Pacific coast. This correction removes the second paragraph § 660.394(n), which is a duplicate of the first § 660.394(n), and redesignates the second § 660.394(h) as § 660.394(i). Correcting these duplications has no regulatory effect and no effect on the public except to eliminate any confusion that may have resulted from the duplicate entries. This correction also does not change the intent or application of the geographic area described in the proposed and final rule. The last two corrections make non-substantive revisions to paragraphs (g) and (l) to ensure that all of the coordinates given are labeled with degree symbols (°,) which were inadvertently removed when the final rule was codified. Ensuring that the coordinates have their appropriate degree symbols has no effect on the public except to eliminate any confusion that may have resulted from the missing symbols.

List of Subjects in 50 CFR Part 660

Fisheries, Fishing, Indian fisheries.

Dated: March 13, 2007.
William T. Hogarth,
Assistant Administrator for Fisheries. National Marine Fisheries Service.

For reasons explained in the preamble, 50 CFR part 660 is corrected by making the following correcting amendments:

PART 660—FISHERIES OFF WEST COAST STATES

1. The authority citation for part 660 continues to read as follows:

Authority: 16 U.S.C. 1801 et seq.

§ 660.302 [Amended]

2. In § 660.302, a duplicate entry for the definition of Office of Law Enforcement (OLE) is removed.

3. In § 660.370, paragraphs (h)(6)(ii)(D) is removed, and paragraphs (h)(6) introductory text, (h)(6)(i)(A) and (C), (h)(6)(ii)(A) and (C), are revised to read as follows:

§ 660.370 Specifications and management measures.

(h) * * *

(6) Sorting. Under § 660.306(a)(7), it is unlawful for any person to “fail to sort, prior to the first weighing after offloading, those groundfish species or species groups for which there is a trip limit, size limit, scientific sorting designation, quota, harvest guideline, or OY, if the vessel fished or landed in an area during a time when such trip limit, size limit, scientific sorting designation, quota, harvest guideline, or OY applied.” The States of Washington, Oregon, and California may also require that vessels record their landings as sorted on their state fish tickets. This provision applies to both the limited entry and open access fisheries. The following species must be sorted:

(i) * * *

(A) Coastwide - widow rockfish, canary rockfish, darkblotched rockfish, yelloweye rockfish, shortbelly rockfish, black rockfish, minor nearshore rockfish, minor shelf rockfish, minor slope rockfish, shortspine and longspine thornyhead, Dover sole, arrowtooth flounder, petrale sole, starry flounder, English sole, other flatfish, lingcod, sablefish, Pacific cod, spiny dogfish, other fish and Pacific whiting;

(C) South of 40 10′ N. lat. minor shallow nearshore rockfish, minor deeper nearshore rockfish, California scorpionfish, chilipepper rockfish, bocaccio rockfish, splitnose rockfish, Pacific sanddabs, cowcod and cabezon.

(ii) * * *

(A) Coastwide - widow rockfish, canary rockfish, darkblotched rockfish, yelloweye rockfish, shortbelly rockfish, black rockfish, minor nearshore rockfish, minor shelf rockfish, minor slope rockfish, shortspine and longspine thornyhead, Dover sole, arrowtooth flounder, petrale sole, starry flounder, English sole, other flatfish, lingcod, sablefish, Pacific cod, spiny dogfish, other fish, Pacific whiting, and Pacific sanddabs;

(C) South of 40°10′ N. lat. - minor shallow nearshore rockfish, minor deeper nearshore rockfish, chilipepper rockfish, bocaccio rockfish, splitnose rockfish, cowcod and cabezon.

4. In § 660.373, paragraph (d) is revised to read as follows:

§ 660.373 Pacific whiting (whiting) fishery management.

(d) Eureka area trip limits. Trip landing or frequency limits may be established, modified, or removed under § 660.370 or § 660.373, specifying the amount of Pacific whiting that may be taken and retained, possessed, or landed by a vessel that, at any time during a fishing trip, fished in the fishery management area shoreward of the 100 fathom (183 m) contour (as shown on NOAA Charts 18580, 18600, and 18620) in the Eureka area (from 43 00′ to 40 30′ N. lat.). Unless otherwise specified, no more than 10,000 lb (4,536 kg) of whiting may be taken and retained, possessed, or landed by a vessel that, at any time during a fishing trip, fished in the fishery management area shoreward of the 100 fm (183 m) contour (as shown on NOAA Charts 18580, 18600, and 18620) in the Eureka management area (defined at § 660.302).

§ 660.391 [Amended]

5. In § 660.391, paragraph (d)(22) is removed, and paragraphs (d)(23) through (332) are redesignated as (d)(22) through (331).

6. In § 660.394, the first paragraph (n) is removed, the second paragraph (h) is redesignated as paragraph (i), and paragraphs (g) and (l)(32) through (50) and (l)(182) are revised, to read as follows:

§ 660.394 Latitude/longitude coordinates defining the 180 fm (329 m) through 250 fm (457 m) depth contours.

(g) The 200-fm (366-m) depth contour between the U.S. border with Canada and the U.S. border with Mexico is defined by straight lines connecting all of the following points in the order stated:

(1) 48°14.75′ N. lat., 125°41.73′ W. long.;

(2) 48°12.85′ N. lat., 125°38.06′ W. long.;

(3) 48°07.10′ N. lat., 125°45.65′ W. long.;

(4) 48°05.71′ N. lat., 125°44.70′ W. long.;

(5) 48°04.07′ N. lat., 125°36.96′ W. long.;

(6) 48°03.05′ N. lat., 125°36.38′ W. long.;

(7) 48°01.98′ N. lat., 125°37.41′ W. long.;

(8) 48°01.46′ N. lat., 125°39.61′ W. long.;

(9) 47°56.94′ N. lat., 125°36.65′ W. long.;

(10) 47°55.11′ N. lat., 125°36.92′ W. long.;

(11) 47°54.10′ N. lat., 125°34.98′ W. long.;

(12) 47°54.50′ N. lat., 125°32.01′ W. long.;

(13) 47°55.77′ N. lat., 125°30.13′ W. long.;

(14) 47°55.65′ N. lat., 125°28.46′ W. long.;

(15) 47°58.11′ N. lat., 125°26.60′ W. long.;

(16) 48°00.40′ N. lat., 125°24.83′ W. long.;

(17) 48°02.04′ N. lat., 125°22.90′ W. long.;

(18) 48°03.60′ N. lat., 125°21.84′ W. long.;

(19) 48°03.98′ N. lat., 125°20.65′ W. long.;

(20) 48°03.26′ N. lat., 125°19.76′ W. long.;

(21) 48°01.50′ N. lat., 125°18.80′ W. long.;

(22) 48°01.03′ N. lat., 125°20.12′ W. long.;

(23) 48°00.04′ N. lat., 125°20.26′ W. long.;

(24) 47°58.10′ N. lat., 125°18.91′ W. long.;

(25) 47°58.17′ N. lat., 125°17.50′ W. long.;

(26) 47°52.33′ N. lat., 125°15.78′ W. long.;

(27) 47°49.20′ N. lat., 125°10.67′ W. long.;

(28) 47°48.27′ N. lat., 125°07.38′ W. long.;

(29) 47°47.24′ N. lat., 125°05.38′ W. long.;

(30) 47°45.95′ N. lat., 125°04.61′ W. long.;

(31) 47°44.58′ N. lat., 125°07.12′ W. long.;

(32) 47°42.24′ N. lat., 125°05.15′ W. long.;

(33) 47°38.54′ N. lat., 125°06.76′ W. long.;

(34) 47°35.03′ N. lat., 125°04.28′ W. long.;

(35) 47°28.82′ N. lat., 124°56.24′ W. long.;

(36) 47°29.15′ N. lat., 124°54.10′ W. long.;

(37) 47°28.43′ N. lat., 124°51.58′ W. long.;

(38) 47°24.13′ N. lat., 124°47.50′ W. long.;

(39) 47°18.31′ N. lat., 124°46.17′ W. long.;

(40) 47°19.57′ N. lat., 124°51.00′ W. long.;

(41) 47°18.12′ N. lat., 124°53.66′ W. long.;

(42) 47°17.60′ N. lat., 124°52.94′ W. long.;

(43) 47°17.71′ N. lat., 124°51.63′ W. long.;

(44) 47°16.90′ N. lat., 124°51.23′ W. long.;

(45) 47°16.10′ N. lat., 124°53.67′ W. long.;

(46) 47°14.24′ N. lat., 124°53.02′ W. long.;

(47) 47°12.16′ N. lat., 124°56.77′ W. long.;

(48) 47°13.35′ N. lat., 124°58.70′ W. long.;

(49) 47°09.53′ N. lat., 124°58.32′ W. long.;

(50) 47°09.54′ N. lat., 124°59.50′ W. long.;

(51) 47°05.87′ N. lat., 124°59.30′ W. long.;

(52) 47°03.65′ N. lat., 124°56.26′ W. long.;

(53) 47°00.87′ N. lat., 124°59.52′ W. long.;

(54) 46°56.80′ N. lat., 125°00.00′ W. long.;

(55) 46°51.55′ N. lat., 125°00.00′ W. long.;

(56) 46°50.07′ N. lat., 124°53.90′ W. long.;

(57) 46°44.88′ N. lat., 124°51.97′ W. long.;

(58) 46°33.45′ N. lat., 124°36.11′ W. long.;

(59) 46°33.20′ N. lat., 124°30.64′ W. long.;

(60) 46°27.85′ N. lat., 124°31.95′ W. long.;

(61) 46°18.27′ N. lat., 124°39.28′ W. long.;

(62) 46°16.00′ N. lat., 124°24.88′ W. long.;

(63) 46°14.22′ N. lat., 124°26.29′ W. long.;

(64) 46°11.53′ N. lat., 124°39.58′ W. long.;

(65) 46°08.77′ N. lat., 124°41.71′ W. long.;

(66) 46°05.86′ N. lat., 124°42.26′ W. long.;

(67) 46°03.85′ N. lat., 124°48.20′ W. long.;

(68) 46°02.33′ N. lat., 124°48.51′ W. long.;

(69) 45°58.99′ N. lat., 124°44.42′ W. long.;

(70) 45°46.90′ N. lat., 124°43.50′ W. long.;

(71) 45°46.00′ N. lat., 124°44.27′ W. long.;

(72) 45°44.98′ N. lat., 124°44.93′ W. long.;

(73) 45°43.46′ N. lat., 124°44.93′ W. long.;

(74) 45°34.88′ N. lat., 124°32.59′ W. long.;

(75) 45°20.25′ N. lat., 124°25.47′ W. long.;

(76) 45°13.06′ N. lat., 124°22.25′ W. long.;

(77) 45°03.83′ N. lat., 124°27.13′ W. long.;

(78) 45°00.17′ N. lat., 124°29.29′ W. long.;

(79) 44°55.60′ N. lat., 124°32.36′ W. long.;

(80) 44°48.25′ N. lat., 124°40.61′ W. long.;

(81) 44°42.24′ N. lat., 124°48.05′ W. long.;

(82) 44°41.35′ N. lat., 124°48.03′ W. long.;

(83) 44°40.27′ N. lat., 124°49.11′ W. long.;

(84) 44°38.52′ N. lat., 124°49.11′ W. long.;

(85) 44°23.30′ N. lat., 124°50.17′ W. long.;

(86) 44°13.19′ N. lat., 124°58.66′ W. long.;

(87) 44°08.30′ N. lat., 124°58.50′ W. long.;

(88) 43°57.89′ N. lat., 124°58.13′ W. long.;

(89) 43°50.59′ N. lat., 124°52.80′ W. long.;

(90) 43°50.10′ N. lat., 124°40.27′ W. long.;

(91) 43°39.05′ N. lat., 124°38.56′ W. long.;

(92) 43°28.85′ N. lat., 124°40.00′ W. long.;

(93) 43°20.83′ N. lat., 124°42.84′ W. long.;

(94) 43°20.22′ N. lat., 124°43.05′ W. long.;

(95) 43°13.29′ N. lat., 124°47.00′ W. long.;

(96) 43°13.15′ N. lat., 124°52.61′ W. long.;

(97) 43°04.60′ N. lat., 124°53.01′ W. long.;

(98) 42°57.56′ N. lat., 124°54.10′ W. long.;

(99) 42°53.82′ N. lat., 124°55.76′ W. long.;

(100) 42°53.41′ N. lat., 124°54.35′ W. long.;

(101) 42°49.52′ N. lat., 124°53.16′ W. long.;

(102) 42°47.47′ N. lat., 124°50.24′ W. long.;

(103) 42°47.57′ N. lat., 124°48.13′ W. long.;

(104) 42°46.19′ N. lat., 124°44.52′ W. long.;

(105) 42°41.75′ N. lat., 124°44.69′ W. long.;

(106) 42°40.50′ N. lat., 124°44.02′ W. long.;

(107) 42°38.81′ N. lat., 124°43.09′ W. long.;

(108) 42°31.82′ N. lat., 124°46.24′ W. long.;

(109) 42°31.96′ N. lat., 124°44.32′ W. long.;

(110) 42°30.95′ N. lat., 124°44.50′ W. long.;

(111) 42°28.39′ N. lat., 124°49.56′ W. long.;

(112) 42°23.34′ N. lat., 124°44.91′ W. long.;

(113) 42°19.72′ N. lat., 124°41.60′ W. long.;

(114) 42°15.12′ N. lat., 124°38.34′ W. long.;

(115) 42°13.67′ N. lat., 124°38.22′ W. long.;

(116) 42°12.35′ N. lat., 124°38.09′ W. long.;

(117) 42°04.35′ N. lat., 124°37.23′ W. long.;

(118) 42°00.00′ N. lat., 124°36.80′ W. long.;

(119) 41°47.84′ N. lat., 124°30.48′ W. long.;

(120) 41°43.33′ N. lat., 124°29.96′ W. long.;

(121) 41°23.46′ N. lat., 124°30.36′ W. long.;

(122) 41°21.29′ N. lat., 124°29.43′ W. long.;

(123) 41°13.52′ N. lat., 124°24.48′ W. long.;

(124) 41°06.71′ N. lat., 124°23.37′ W. long.;

(125) 40°54.66′ N. lat., 124°28.20′ W. long.;

(126) 40°51.52′ N. lat., 124°27.47′ W. long.;

(127) 40°40.62′ N. lat., 124°32.75′ W. long.;

(128) 40°36.08′ N. lat., 124°40.18′ W. long.;

(129) 40°32.90′ N. lat., 124°41.90′ W. long.;

(130) 40°31.30′ N. lat., 124°41.00′ W. long.;

(131) 40°30.00′ N. lat., 124°38.15′ W. long.;

(132) 40°27.29′ N. lat., 124°37.34′ W. long.;

(133) 40°24.98′ N. lat., 124°36.44′ W. long.;

(134) 40°22.22′ N. lat., 124°31.85′ W. long.;

(135) 40°16.94′ N. lat., 124°32.00′ W. long.;

(136) 40°17.58′ N. lat., 124°45.30′ W. long.;

(137) 40°13.24′ N. lat., 124°32.43′ W. long.;

(138) 40°10.00′ N. lat., 124°24.64′ W. long.;

(139) 40°06.43′ N. lat., 124°19.26′ W. long.;

(140) 40°07.06′ N. lat., 124°17.82′ W. long.;

(141) 40°04.70′ N. lat., 124°18.17′ W. long.;

(142) 40°02.34′ N. lat., 124°16.64′ W. long.;

(143) 40°01.52′ N. lat., 124°09.89′ W. long.;

(144) 39°58.27′ N. lat., 124°13.58′ W. long.;

(145) 39°56.59′ N. lat., 124°12.09′ W. long.;

(146) 39°55.19′ N. lat., 124°08.03′ W. long.;

(147) 39°52.54′ N. lat., 124°09.47′ W. long.;

(148) 39°42.67′ N. lat., 124°02.59′ W. long.;

(149) 39°35.95′ N. lat., 123°59.56′ W. long.;

(150) 39°34.61′ N. lat., 123°59.66′ W. long.;

(151) 39°33.77′ N. lat., 123°56.89′ W. long.;

(152) 39°33.01′ N. lat., 123°57.14′ W. long.;

(153) 39°32.20′ N. lat., 123°59.20′ W. long.;

(154) 39°07.84′ N. lat., 123°59.14′ W. long.;

(155) 39°01.11′ N. lat., 123°57.97′ W. long.;

(156) 39°00.51′ N. lat., 123°56.96′ W. long.;

(157) 38°57.50′ N. lat., 123°57.57′ W. long.;

(158) 38°56.57′ N. lat., 123°57.80′ W. long.;

(159) 38°56.39′ N. lat., 123°59.48′ W. long.;

(160) 38°50.22′ N. lat., 123°55.55′ W. long.;

(161) 38°46.76′ N. lat., 123°51.56′ W. long.;

(162) 38°45.27′ N. lat., 123°51.63′ W. long.;

(163) 38°42.76′ N. lat., 123°49.83′ W. long.;

(164) 38°41.53′ N. lat., 123°47.83′ W. long.;

(165) 38°40.97′ N. lat., 123°48.14′ W. long.;

(166) 38°38.02′ N. lat., 123°45.85′ W. long.;

(167) 38°37.19′ N. lat., 123°44.08′ W. long.;

(168) 38°33.43′ N. lat., 123°41.82′ W. long.;

(169) 38°29.44′ N. lat., 123°38.49′ W. long.;

(170) 38°28.08′ N. lat., 123°38.33′ W. long.;

(171) 38°23.68′ N. lat., 123°35.47′ W. long.;

(172) 38°19.63′ N. lat., 123°34.05′ W. long.;

(173) 38°16.23′ N. lat., 123°31.90′ W. long.;

(174) 38°14.79′ N. lat., 123°29.98′ W. long.;

(175) 38°14.12′ N. lat., 123°26.36′ W. long.;

(176) 38°10.85′ N. lat., 123°25.84′ W. long.;

(177) 38°13.15′ N. lat., 123°28.25′ W. long.;

(178) 38°12.28′ N. lat., 123°29.88′ W. long.;

(179) 38°10.19′ N. lat., 123°29.11′ W. long.;

(180) 38°07.94′ N. lat., 123°28.52′ W. long.;

(181) 38°06.51′ N. lat., 123°30.96′ W. long.;

(182) 38°04.21′ N. lat., 123°32.03′ W. long.;

(183) 38°02.07′ N. lat., 123°31.37′ W. long.;

(184) 38°00.00′ N. lat., 123°29.62′ W. long.;

(185) 37°58.13′ N. lat., 123°27.28′ W. long.;

(186) 37°55.01′ N. lat., 123°27.53′ W. long.;

(187) 37°51.40′ N. lat., 123°25.25′ W. long.;

(188) 37°43.97′ N. lat., 123°11.56′ W. long.;

(189) 37°35.67′ N. lat., 123°02.32′ W. long.;

(190) 37°13.65′ N. lat., 122°54.25′ W. long.;

(191) 37°11.00′ N. lat., 122°50.97′ W. long.;

(192) 37°07.00′ N. lat., 122°45.90′ W. long.;

(193) 37°00.66′ N. lat., 122°37.91′ W. long.;

(194) 36°57.40′ N. lat., 122°28.32′ W. long.;

(195) 36°59.25′ N. lat., 122°25.61′ W. long.;

(196) 36°56.88′ N. lat., 122°25.49′ W. long.;

(197) 36°57.40′ N. lat., 122°22.69′ W. long.;

(198) 36°55.43′ N. lat., 122°22.49′ W. long.;

(199) 36°52.29′ N. lat., 122°13.25′ W. long.;

(200) 36°47.12′ N. lat., 122°07.62′ W. long.;

(201) 36°47.10′ N. lat., 122°02.17′ W. long.;

(202) 36°43.76′ N. lat., 121°59.17′ W. long.;

(203) 36°38.85′ N. lat., 122°02.26′ W. long.;

(204) 36°23.41′ N. lat., 122°00.17′ W. long.;

(205) 36°19.68′ N. lat., 122°06.99′ W. long.;

(206) 36°14.75′ N. lat., 122°01.57′ W. long.;

(207) 36°09.74′ N. lat., 121°45.06′ W. long.;

(208) 36°06.75′ N. lat., 121°40.79′ W. long.;

(209) 36°00.00′ N. lat., 121°35.98′ W. long.;

(210) 35°58.18′ N. lat., 121°34.69′ W. long.;

(211) 35°52.31′ N. lat., 121°32.51′ W. long.;

(212) 35°51.21′ N. lat., 121°30.97′ W. long.;

(213) 35°46.32′ N. lat., 121°30.36′ W. long.;

(214) 35°33.74′ N. lat., 121°20.16′ W. long.;

(215) 35°31.37′ N. lat., 121°15.29′ W. long.;

(216) 35°23.32′ N. lat., 121°11.50′ W. long.;

(217) 35°15.28′ N. lat., 121°04.51′ W. long.;

(218) 35°07.08′ N. lat., 121°00.36′ W. long.;

(219) 34°57.46′ N. lat., 120°58.29′ W. long.;

(220) 34°44.25′ N. lat., 120°58.35′ W. long.;

(221) 34°32.30′ N. lat., 120°50.28′ W. long.;

(222) 34°27.00′ N. lat., 120°42.61′ W. long.;

(223) 34°19.08′ N. lat., 120°31.27′ W. long.;

(224) 34°17.72′ N. lat., 120°19.32′ W. long.;

(225) 34°22.45′ N. lat., 120°12.87′ W. long.;

(226) 34°21.36′ N. lat., 119°54.94′ W. long.;

(227) 34°09.95′ N. lat., 119°46.24′ W. long.;

(228) 34°09.08′ N. lat., 119°57.59′ W. long.;

(229) 34°07.53′ N. lat., 120°06.41′ W. long.;

(230) 34°10.54′ N. lat., 120°19.13′ W. long.;

(231) 34°14.68′ N. lat., 120°29.54′ W. long.;

(232) 34°09.51′ N. lat., 120°38.38′ W. long.;

(233) 34°03.06′ N. lat., 120°35.60′ W. long.;

(234) 33°56.39′ N. lat., 120°28.53′ W. long.;

(235) 33°50.25′ N. lat., 120°09.49′ W. long.;

(236) 33°37.96′ N. lat., 120°00.14′ W. long.;

(237) 33°34.52′ N. lat., 119°51.90′ W. long.;

(238) 33°35.51′ N. lat., 119°48.55′ W. long.;

(239) 33°42.76′ N. lat., 119°47.83′ W. long.;

(240) 33°53.62′ N. lat., 119°53.34′ W. long.;

(241) 33°57.61′ N. lat., 119°31.32′ W. long.;

(242) 33°56.34′ N. lat., 119°26.46′ W. long.;

(243) 33°57.79′ N. lat., 119°26.91′ W. long.;

(244) 33°58.88′ N. lat., 119°20.12′ W. long.;

(245) 34°02.65′ N. lat., 119°15.17′ W. long.;

(246) 33°59.02′ N. lat., 119°03.05′ W. long.;

(247) 33°57.61′ N. lat., 118°42.13′ W. long.;

(248) 33°50.76′ N. lat., 118°38.03′ W. long.;

(249) 33°39.41′ N. lat., 118°18.74′ W. long.;

(250) 33°35.51′ N. lat., 118°18.08′ W. long.;

(251) 33°30.68′ N. lat., 118°10.40′ W. long.;

(252) 33°32.49′ N. lat., 117°51.90′ W. long.;

(253) 32°58.87′ N. lat., 117°20.41′ W. long.; and

(254) 32°35.53′ N. lat., 117°29.72′ W. long.

(l) * * *

(32) 47°28.82′ N. lat., 124°56.24′ W. long.;

(33) 47°29.15′ N. lat., 124°54.10′ W. long.;

(34) 47°28.43′ N. lat., 124°51.58′ W. long.;

(35) 47°24.13′ N. lat., 124°47.50′ W. long.;

(36) 47°18.31′ N. lat., 124°46.17′ W. long.;

(37) 47°19.57′ N. lat., 124°51.00′ W. long.;

(38) 47°18.12′ N. lat., 124°53.66′ W. long.;

(39) 47°17.60′ N. lat., 124°52.94′ W. long.;

(40) 47°17.71′ N. lat., 124°51.63′ W. long.;

(41) 47°16.90′ N. lat., 124°51.23′ W. long.;

(42) 47°16.10′ N. lat., 124°53.67′ W. long.;

(43) 47°14.24′ N. lat., 124°53.02′ W. long.;

(44) 47°12.16′ N. lat., 124°56.77′ W. long.;

(45) 47°13.35′ N. lat., 124°58.70′ W. long.;

(46) 47°09.53′ N. lat., 124°58.32′ W. long.;

(47) 47°09.54′ N. lat., 124°59.50′ W. long.;

(48) 47°05.87′ N. lat., 124°59.30′ W. long.;

(49) 47°03.65′ N. lat., 124°56.26′ W. long.;

(50) 47°00.87′ N. lat., 124°59.52′ W. long.;

* * * * *

(182) 36°24.12′ N. lat., 121°59.74′ W. long.;

[FR Doc. 07-1319 Filed 3-19-07; 8:45 am]

BILLING CODE 3510-22-S